DEPARTMENT OF EDUCATION

Applications for New Awards; Magnet Schools Assistance Program

AGENCY: Office of Elementary and Secondary Education, Department of Education.

ACTION: Notice.

SUMMARY: The Department of Education (Department) is issuing a notice inviting applications for fiscal year (FY) 2024 for the Magnet Schools Assistance Program (MSAP), Assistance Listing Number 84.165A. This notice relates to the approved information collection under OMB control number 1855-0011.

DATES:

Applications Available: March 14, 2024.

Deadline for Notice of Intent to Apply: April 29, 2024.

Deadline for Transmittal of Applications: May 13, 2024.

Deadline for Intergovernmental Review: July 12, 2024.

Pre-Application Webinar Information: No later than March 28, 2024, MSAP will begin holding webinars to provide technical assistance to interested applicants on key application-related topics. Interested applicants are strongly encouraged to participate or review the accompanying materials available online. Updated information and past application webinars can be found on the MSAP website at https://oese.ed.gov/offices/office-of-discretionary-grants-support-services/school-choice-improvement-programs/magnet-school-assistance-program-msap/. Recordings of all webinars will be available on the MSAP website following the sessions.

ADDRESSES: For the addresses for obtaining and submitting an application, please refer to our Common Instructions for Applicants to Department of Education Discretionary Grant Programs, published in the Federal Register on December 7, 2022 (87 FR 75045), and available at www.federalregister.gov/documents/2022/12/07/2022-26554/common-instructions-for-applicants-to-department-of-education-discretionary-grant-programs.

FOR FURTHER INFORMATION CONTACT: Gillian Cohen-Boyer, U.S. Department of Education, 400 Maryland Avenue SW, Room 4B212, Washington, DC 20202-5970. Telephone: (202) 365-7944. Email: msap.team@ed.gov.

If you are deaf, hard of hearing, or have a speech disability and wish to access telecommunications relay services, please dial 7-1-1.

SUPPLEMENTARY INFORMATION:

Full Text of Announcement

I. Funding Opportunity Description

Purpose of Program: MSAP, authorized under title IV, part D of the Elementary and Secondary Education Act of 1965, as amended (ESEA), provides grants to local educational agencies (LEAs) and consortia of LEAs to create or revise magnet schools under required or voluntary desegregation plans.

Under section 4401(b) of the ESEA, 20 U.S.C. 7231, the purpose of MSAP is to assist LEAs in the desegregation of schools by providing financial assistance to eligible LEAs for: (1) the elimination, reduction, or prevention of minority group isolation (MGI) in elementary schools and secondary schools with substantial proportions of minority students, which shall include assisting in the efforts of the United States to achieve voluntary desegregation in public schools; (2) the development, implementation, and expansion of magnet school programs that will assist LEAs in achieving systemic reforms and providing all students the opportunity to meet challenging State academic standards; (3) the development, design, and expansion of innovative educational methods and practices that promote diversity and increase choices in public elementary schools and public secondary schools and public educational programs; (4) courses of instruction within magnet schools that will substantially strengthen the knowledge of academic subjects and the attainment of tangible and marketable career, technological, and professional skills of students attending such schools; (5) improving the capacity of LEAs, including through professional development, to continue operating magnet schools at a high performance level after Federal funding for the magnet schools is terminated; and (6) ensuring that all students enrolled in the magnet school programs have equitable access to high-quality education that will enable the students to succeed academically and continue with postsecondary education or employment.

Background: As indicated by Congress in MSAP's authorizing legislation (section 4401(a) of the ESEA, 20 U.S.C. 7231(a)), magnet schools have been a significant part of the Nation's effort over the past 40 years to achieve voluntary school desegregation. “The use of magnet schools has increased dramatically since the inception of MSAP under the ESEA, with approximately 2,500,000 students nationwide attending such schools, of whom more than 69 percent are non-white,” they state. “Magnet schools offer a wide range of distinctive programs that have served as models for school improvement.” Research suggests that increasing student's access to more diverse student bodies provides a range of benefits to all students, including improved leadership skills, social mobility, civic engagement, academic success, empathy, and understanding.¹ Unfortunately, now, nearly 70 years after the Brown v. Board of Education decision, much of the progress toward school desegregation and equity has stalled or even reversed in many communities.² For example, demographic isolation has been exacerbated by policy choices related to school assignment, zoning, and transportation options that create inequitable access to high-quality schools. The U.S. Government Accountability Office (GAO) documented this situation in a 2022 report showing that the “student population has significantly diversified, but many schools remain divided along racial, ethnic, and economic lines.” ³ This finding builds on a 2016 report from the GAO which documented the increase in percentages of schools with high concentrations of students from families with low incomes and high concentrations of students of particular racial backgrounds.⁴

¹ Kahlenberg, R.D., Potter, H., & Quick, K. (2019). A bold agenda for school integration. The Century Foundation. https://eric.ed.gov/?id=ED603383.

² Logan, J.R., Minca, E., & Adar, S. (2012). The Geography of Inequality: Why Separate Means Unequal in American Public Schools. Sociology of Education, 85(3), 287-301. https://doi.org/10.1177/0038040711431588.

³ U.S. Government Accountability Office. (2022). “K-12 Education: Student Population Has Significantly Diversified, but Many Schools Remain Divided Along Racial, Ethnic, and Economic Lines.” GAO-22-104737. https://www.gao.gov/products/gao-22-104737.

⁴ U.S. Government Accountability Office. (2016). “K-12 Education: Better Use of Information Could Help Agencies Identify Disparities and Address Racial Discrimination.” GAO-16-345. https://www.gao.gov/products/gao-16-345.

Since the 1980s, MSAP has supported LEAs with funding to create magnet schools, defined under section 4402 of the ESEA, 20 U.S.C. 7231a, as public elementary or secondary schools or education centers that offer “a special curriculum capable of attracting substantial numbers of students of different racial backgrounds,” as part of their efforts to voluntarily desegregate their schools or meet the intended outcomes of desegregation plans required by a final order of any court of the United States, a court of any State, or any other State agency or official of competent jurisdiction (herein referred to as “required plans” or “required desegregation plans”). Proposed MSAP projects should be designed to foster high-quality educational programs in newly developed or revitalized magnet schools, as a means of attracting a diverse group of students and families in order to reduce or eliminate the isolation of a particular minority group (or prevent such isolation from occurring), as well as to provide equitable access for all students to courses of instruction that substantially strengthen knowledge of academic subjects and the attainment of tangible skills. In accordance with section 4405 of the ESEA, 20 U.S.C. 7231d, 34 CFR 280.2 and 280.20, as described in section III, paragraph 4 of this notice, applicants must demonstrate how Federal funding of the proposed magnet schools will assist in achieving objectives related to the reduction, prevention, or elimination of MGI either in the proposed magnets or in the specific schools from which those students are coming (the magnets' feeder schools) to address the goals identified in the LEA's required or voluntary desegregation plan. (See section III, paragraph 4 for further information regarding desegregation plans). In addition, to address another goal of the MSAP program, we encourage applicants to strongly consider how the development, implementation, and expansion of magnet school programs will assist the LEA in achieving systemic reforms to provide students with the opportunity, resources and supports to meet challenging State academic standards. Finally, should LEAs wish to test new transportation options in order to widen student access to magnet programming, we note that under section 4407(a)(9) of the ESEA, 20 U.S.C. 7231f, MSAP permits applicants to support student transportation to and from magnet schools, provided the costs are sustainable beyond the grant period and do not constitute a significant portion of an LEA's grant funds.

To lead effective magnet schools and implement a MSAP project, LEAs work across several different work strands over the grant period. The Magnet School Development Framework (https://oese.ed.gov/files/2022/03/Toolkits_MSAP-DevelopmentFramework.pdf) is one tool to help guide project development. The framework speaks to five core school-specific areas to which to attend: diversity, inclusion, and equity; enrollment and recruitment; curriculum and instruction; family engagement; and partnership development. It also identifies six key elements for school and community leaders in cultivating effective schools: leadership and management; communication; data use; theme integration; professional development; and planning for sustainability. MSAP funding provides a key lever for LEAs to collaborate across schools and districts, as well as with key stakeholders, including educators, families and students, and external governmental, nonprofit, business, and other community partners to improve and expand efforts in each of these areas.

To streamline and, for new applicants, enhance the accessibility of the MSAP application process, for the FY 2024 competition there are two absolute priorities under which applicants may apply: Absolute Priority 1, Applications from New Potential Grantees; and Absolute Priority 2, Applications from Grantees That Are Not New Potential Grantees. LEAs that, as of the deadline date for submission of applications, are currently operating an active MSAP grant would apply under Absolute Priority 2. The selection criteria, which are used to evaluate applications and derived from MSAP's authorizing statute and 34 CFR 280.31 and 75.210, remain similar for applications submitted under both Absolute Priority 1 and Absolute Priority 2. However, applicants under Absolute Priority 2 have an opportunity in their applications to demonstrate how the proposed project outlined in this application would allow the LEA(s) to extend and build on work currently underway using MSAP funds, particularly in their responses to the competitive preference priorities.

As with previous MSAP competitions, the FY 2024 MSAP competition includes several competitive preference and invitational priorities. Competitive Preference Priorities 1-4 were established by Congress in the reauthorization of MSAP under ESEA as specific tools for promoting educational equity and commitments to excellence within magnet schools. These competitive preference priorities address an LEA's need for MSAP funding, the evidence base undergirding the LEA's program design for new or significantly revitalized magnet schools, the means of student selection for admission including use of lotteries and other non-academic means, and attention to socioeconomic factors in promoting diversity. Applicants under both absolute priorities are encouraged to address Competitive Preference Priorities 1-4 while considering the development of strong and sustainable magnet schools and programs in their projects.

This competition also includes two additional competitive preference priorities which are targeted to only those applicants under Absolute Priority 2: Applications from Grantees That Are Not New Potential Grantees. These are: Competitive Preference Priority 5, Promoting Equity in Student Access to Educational Resources and Opportunities and Competitive Preference Priority 6, Supporting a Diverse Educator Workforce and Professional Growth to Strengthen Student Learning. Competitive Preference Priorities 5 and 6, rooted in the Secretary's Supplemental Priorities,⁵ are designed to encourage MSAP grantees to address broader systemic, policy, and collaborative leadership challenges in the environments in which the magnet schools function to further promote their success.

⁵ 86 FR 70612.

Under Competitive Preference Priority 5, applicants must review sources of inequity, and as part of their MSAP project, plan to develop or implement specific strategies to address the root causes of these inequities, which include collaboration with other LEAs, other governmental or community agencies, or across district leadership to effect policy change to address barriers to student's access to equitable opportunities. Applicants should consider establishing inter-district magnet programs, consistent with a 2019 Urban Institute report finding that two-thirds of total school segregation in metropolitan areas is due to segregation between, rather than within, school districts.⁶ The Department is also interested in projects from LEAs that propose to coordinate with other relevant government entities—such as housing and transportation authorities and through similar programs such as the U.S. Department of Housing and Urban Development Rental Assistance Demonstration program—given the impact that other public policy choices may have on the composition of a school's student body. Finally, applicants could describe plans related to selection of magnet school sites or revising school boundaries, attendance zones, or feeder patterns to take into account neighboring communities; and formal merging or coordination among multiple educational jurisdictions in order to pool and more equitably allocate resources, provide transportation, expand curricula and program options, and expand high-quality public school options for students from low-income backgrounds. High-quality responses to Competitive Preference Priority 5 will identify how the specific strategies outlined are integrated components of their overall MSAP project.

⁶ Monarrez, T., Kisida, B., Chingos, M. When Is a School Segregated? Making Sense of Segregation 65 Years after Brown v. Board of Education (2019), Urban Institute, www.urban.org/research/publication/when-school-segregated-making-sense-segregation-65-years-after-brown-v-board-education.

In addition, to increase the overall diversity of the school settings in which students learn and to best support a diverse set of learners within proposed magnet schools, under Competitive Preference Priority 6, applicants are asked to demonstrate connections between their proposed MSAP projects and broader school or district efforts to increase students' access to a diverse group of educators who are well-prepared and supported to provide them with high-quality instruction. High-quality responses to Competitive Preference Priority 6 will specify how the applicant intends to leverage the LEA's broader human resource efforts as an integrated component in meeting the goals and objectives of the MSAP project.

This competition also includes one invitational priority for projects that propose to establish whole school magnet programs in order to promote equitable access to learning opportunities for students in ways that allow all students within a school to successfully engage in the special curriculum or program. Whole school magnets, in which all students in the school participate in the magnet programming, tend to more effectively offer diverse and equitable opportunities, where magnet programs within schools can have the effect of creating separate tracks and programs for different student populations within the school.⁷ While magnet programs within schools are permissible for MSAP, consideration should be given as to how these will not inadvertently lead to further minority group isolation across tracks as well as to how the funded programming may benefit students across the whole school.

⁷ George, J., Darling-Hammond, L., & Plasencia, S. (2023). Advancing integration and equity through magnet schools [Policy brief]. Learning Policy Institute. https://learningpolicyinstitute.org/product/advancing-integration-equity-magnet-schools-brief.

Finally, for several years the Department has worked to promote the effective use of evidence and evaluation in program development. MSAP promotes the use of evidence in identifying practices to improve LEAs' capacity to continue effectively operating magnet schools beyond the funding period. This competition provides opportunities for applicants to address the use of evidence in several ways. First, under Selection Criterion (a)—Desegregation, outlined in section V, paragraph 1(a) of this notice, applicants are encouraged to demonstrate the conceptual framework underlying the project, for example, in the form of a logic model or similar graphic organizer, to demonstrate how, strategically, their proposed project activities would allow them to meet the purposes of MSAP. As described above, this competition also includes a competitive preference priority promoting the use of evidence to undergird proposed programming in new and significantly revitalized magnet schools. Finally, this competition includes a selection criterion related to the quality of the applicant's evaluation plan (see section V, paragraph 1(c)). The first two factors of this selection criterion address the applicant's plan for monitoring the implementation of their project activities, both in response to program-wide performance measures (see section IV, paragraph 5 of this notice) and the applicant's specific project objectives. The third factor applies to the applicant's plans to meet the requirement in section VI, paragraph 4(c) that grantees conduct an impact analysis of a specific project component or components in a study designed to yield results at the level of promising evidence. For those applicants applying under Absolute Priority 1, a high-quality response to section V, paragraph 1(e)(3) will outline the plans to identify the appropriate focus for this promising evidence evaluation plan and steps the applicant would take to initiate such an evaluation plan. For applicants applying under Absolute Priority 2, a high-quality response will describe the specific project components to be evaluated through the evaluation plan and the steps the applicant would take to create, at a minimum, a well-designed and implemented correlational study with statistical controls for selection bias designed to produce promising evidence. The Department is committed to supporting the use of evidence in developing an LEA's capacity for the effective implementation of magnet schools in their community, as well as to building the body of evidence supporting effective approaches to these efforts. However, we also recognize that identifying entities with appropriate expertise to help craft and implement such an impact analysis could take time and should not serve as a barrier for new potential grantees.

Priorities: This competition includes two absolute priorities, six competitive preference priorities, and one invitational priority. Absolute Priorities 1 and 2 are from the Administrative Priorities for Discretionary Grant Programs published in the Federal Register on March 9, 2020 (85 FR 13640) (Administrative Priorities). In accordance with 34 CFR 75.105(b)(2)(ii), Competitive Preference Priorities 1 and 3 are from the MSAP regulations at 34 CFR 280.32. In accordance with 34 CFR 75.105(b)(2)(iv), Competitive Preference Priorities 2 and 4 are from section 4406 of the ESEA, 20 U.S.C. 7231e. Competitive Preference Priorities 5 and 6 are from the Final Priorities and Definitions—Secretary's Supplemental Priorities and Definitions for Discretionary Grants Programs, published in the Federal Register on December 10, 2021 (86 FR 70612) (Supplemental Priorities).

Absolute Priorities: For FY 2024 and any subsequent year in which we make awards from the list of unfunded applications from this competition, these priorities are absolute priorities. Under 34 CFR 75.105(c)(3) we consider only applications that meet Absolute Priority 1 or Absolute Priority 2. Absolute Priorities 1 and 2 constitute separate funding categories and will be considered for funding under two separate ranked orders. The Secretary intends to award grants under the separately ranked orders under each of these absolute priorities provided that the applications submitted under each are of sufficient quality.

These priorities are:

Absolute Priority 1: Applications from New Potential Grantees.

(a) Under this priority, an applicant must demonstrate the applicant does not, as of the deadline date for submission of applications, have an active grant, including through membership in a group application submitted in accordance with 34 CFR 75.127-75.129, under the program from which it seeks funds.

(b) For the purpose of this priority, a grant or contract is active until the end of the grant's or contract's project or funding period, including any extensions of those periods that extend the grantee's or contractor's authority to obligate funds.

Absolute Priority 2: Applications from Grantees that are not New Potential Grantees.

(a) Under this priority, an applicant must demonstrate the applicant has, as of the deadline date for submission of applications, an active grant, including through membership in a group application submitted in accordance with 34 CFR 75.127-75.129, under the program from which it seeks funds.

(b) For the purpose of this priority, a grant or contract is active until the end of the grant's or contract's project or funding period, including any extensions of those periods that extend the grantee's or contractor's authority to obligate funds.

Competitive Preference Priorities: For FY 2024 and any subsequent year in which we make awards from the list of unfunded applications from this competition, these priorities are competitive preference priorities. Under 34 CFR 75.105(c)(2)(i), we award up to 2 additional points to an application depending on how well the application meets Competitive Preference Priority 1, up to 3 additional points to an application depending on how well the application meets Competitive Preference Priority 2, up to 3 additional points to an application depending on how well the application meets Competitive Preference Priority 3, up to 5 additional points to an application depending on how well the application meets Competitive Preference Priority 4, up to 8 additional points to an application depending on how well the application meets Competitive Preference Priority 5, and up to 4 additional points to an application depending on how well the application meets Competitive Preference Priority 6. Applicants that apply under Absolute Priority 1 may choose to address one or more of Competitive Preference Priorities 1-4 for up to a total of 13 additional points, depending on how well the application meets one or more of the priorities. Applicants that apply under Absolute Priority 2 may choose to address one or more of Competitive Preference Priorities 1-6 for up to a total of 25 additional points, depending on how well the application meets one or more of the priorities.

These priorities are:

Competitive Preference Priority 1—Need for Assistance (up to 2 points).

The Secretary evaluates the applicant's need for assistance by considering—

(1) The costs of fully implementing the magnet schools project as proposed;

(2) The resources available to the applicant to carry out the project if funds under the program were not provided;

(3) The extent to which the costs of the project exceed the applicant's resources; and

(4) The difficulty of effectively carrying out the approved plan and the project for which assistance is sought, including consideration of how the design of the magnet school project—e.g., the type of program proposed, the location of the magnet school within the LEA—impacts the applicant's ability to successfully carry out the approved plan.

Competitive Preference Priority 2—New or Revised Magnet Schools Projects and Strength of Evidence to Support Proposed Projects (up to 3 points).

The Secretary determines the extent to which the applicant proposes to (1) carry out a new, evidence-based magnet school program; (2) significantly revise an existing magnet school program, using evidence-based methods and practices, as available; or (3) replicate an existing magnet school program that has a demonstrated record of success in increasing student academic achievement and reducing isolation of minority groups.

Competitive Preference Priority 3—Selection of Students (up to 3 points).

The Secretary determines the extent to which the applicant proposes to select students to attend magnet schools by methods such as lottery, rather than through academic examination.

Competitive Preference Priority 4—Socioeconomic Diversity (up to 5 points).

The Secretary determines the extent to which the applicant proposes to increase racial integration by taking into account socioeconomic diversity in designing and implementing magnet school programs.

Competitive Preference Priority 5—Promoting Equity in Student Access to Educational Resources and Opportunities (up to 8 points).

Under this priority, an applicant must demonstrate that it proposes a project designed to promote educational equity and adequacy in resources and opportunity for underserved students—

(a) In one or more of the following educational settings:

(1) Early learning programs.

(2) Elementary school.

(3) Middle school.

(4) High school.

(5) Career and technical education programs.

(6) Out-of-school-time settings.

(7) Alternative schools and programs;

(b) That examines the sources of inequity and inadequacy and implements responses, and that includes increasing student racial or socioeconomic diversity, through developing or implementing evidence-based policies or strategies that may include one or more of the following:

(1) Inter-district coordination.

(2) Cross-agency collaboration, such as with housing or transportation authorities.

(3) School assignment or admissions policies that are designed to promote socioeconomic diversity and provide equitable access to educational opportunities for students from low-income backgrounds or students residing in neighborhoods experiencing concentrated poverty.

Competitive Preference Priority 6—Supporting a Diverse Educator Workforce and Professional Growth to Strengthen Student Learning (up to 4 points).

Projects that are designed to increase the proportion of well-prepared, diverse, and effective educators serving students, with a focus on underserved students, through building or expanding high-poverty school (as may be defined in the program statute or regulations) districts' capacity to hire, support, and retain an effective and diverse educator workforce, through one or more of the following:

(a) Providing beginning educators with evidence-based mentoring or induction programs.

(b) Adopting or expanding comprehensive, strategic career and compensation systems that provide competitive compensation and include opportunities for educators to serve as mentors and instructional coaches, or to take on additional leadership roles and responsibilities for which educators are compensated.

(c) Developing data systems, timelines, and action plans for promoting inclusive and bias-free human resources practices that promote and support development of educator diversity.

(d) Providing opportunities for educators to be involved in the design and implementation of local and district wide initiatives that advance systemic changes.

Invitational Priority: For FY 2024 and any subsequent year in which we make awards from the list of unfunded applications from this competition, this priority is an invitational priority. All applicants may address the invitational priority. Under 34 CFR 75.105(c)(1), we do not give an application that meets this invitational priority a competitive or absolute preference over other applications.

This priority is:

Whole School Magnet Programs.

Projects that propose to implement “whole school magnet” schools in which all students enrolled in the school participate in the magnet school program, rather than schools that implement magnet programs within schools that are offered to less than the entire school population.

Definitions: The definition of “evidence-based” is from 20 U.S.C. 7801. The definitions of “desegregation,” “feeder school,” “magnet school,” and “minority group” are from 34 CFR 280.4. The definitions of “demonstrates a rationale,” “experimental study,” “logic model,” “project component,” “promising evidence,” “quasi-experimental design study,” “relevant outcome,” and “What Works Clearinghouse Handbooks” are from 34 CFR 77.1(c). The definitions of “children or students with disabilities,” “disconnected youth,” “educator,” “English learner,” “military- or veteran-connected student,” and “underserved student” are from the Supplemental Priorities.

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(202)(B)).

Demonstrates a rationale means a key project component included in the project's logic model is informed by research or evaluation findings that suggest the project component is likely to improve relevant outcomes.

Desegregation, in reference to a plan, means a plan for the reassignment of children or faculty to remedy the illegal separation of minority group children or faculty in the schools of an LEA or a plan for the reduction, elimination, or prevention of minority group isolation in one or more of the schools of an LEA.

Disconnected youth means an individual, between the ages 14 and 24, who may be from a low-income background, experiences homelessness, is in foster care, is involved in the justice system, or is not working or not enrolled in (or at risk of dropping out of) an educational institution.

Educator means an individual who is an early learning (as defined in the Supplemental Priorities) educator, teacher, principal or other school leader, specialized instructional support personnel (e.g., school psychologist, counselor, school social worker, early intervention service personnel), paraprofessional, or faculty.

English learner means an individual who is an English learner as defined in section 8101(20) of the ESEA, or an individual who is an English language learner as defined in section 203(7) of the Workforce Innovation and Opportunity Act.

Evidence-based means an activity, strategy, or intervention that—

(i) Demonstrates a statistically significant effect on improving student outcomes or other relevant outcomes based on—

(A) Strong evidence from at least one well-designed and well-implemented experimental study;

(B) Moderate evidence from at least one well-designed and well-implemented quasi-experimental study; or

(C) Promising evidence from at least one well-designed and well-implemented correlational study with statistical controls for selection bias; or

(ii)(A) Demonstrates a rationale based on high-quality research findings or positive evaluation that such activity, strategy, or intervention is likely to improve student outcomes or other relevant outcomes; and

(B) Includes ongoing efforts to examine the effects of such activity, strategy, or intervention.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Feeder school means a school from which students are drawn to attend a magnet school.

Logic model (also referred to as a theory of action) means a framework that identifies key project components of the proposed project (i.e., the active “ingredients” that are hypothesized to be critical to achieving the relevant outcomes) and describes the theoretical and operational relationships among the key project components and relevant outcomes.

Magnet school means a public elementary school, public secondary school, public elementary education center, or public secondary education center that offers a special curriculum capable of attracting substantial numbers of students of different racial backgrounds.

Military- or veteran-connected student means a child participating in an early learning (as defined in the Supplemental Priorities) program, a student enrolled in preschool through grade 12, or a student enrolled in career and technical education or postsecondary education who has a parent or guardian who is a veteran of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

Minority group means the following:

(1) American Indian or Alaskan Native. A person having origins in any of the original peoples of North America, and who maintains cultural identification through tribal affiliation or community recognition.

(2) Asian or Pacific Islander. A person having origins in any of the original peoples of the Far East, Southeast Asia, the Indian subcontinent, or the Pacific Islands. This area includes, for example, China, India, Japan, Korea, the Philippine Islands, and Samoa.

(3) Black (Not of Hispanic Origin). A person having origins in any of the black racial groups of Africa.

(4) Hispanic. A person of Mexican, Puerto Rican, Cuban, Central or South American, or other Spanish culture or origin, regardless of race.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

Underserved student means a student (which includes students in K-12 programs) in one or more of the following student groups:

(a) A student who is living in poverty or is served by schools with high concentrations of students living in poverty.

(b) A student of color.

(c) A student who is a member of a federally recognized Indian Tribe.

(d) An English learner.

(e) A child or student with a disability.

(f) A disconnected youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student performing significantly below grade level.

(p) A military- or veteran- connected student.

What Works Clearinghouse (WWC) Handbooks means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The WWC Procedures and Standards Handbook (Version 4.1), as well as the more recent WWC Handbooks released in August 2022 (Version 5.0), are available at https://ies.ed.gov/ncee/wwc/Handbooks.

Program Authority: 20 U.S.C. 7231-7231j.

Note: Projects will be awarded and must be operated in a manner consistent with the nondiscrimination requirements contained in Federal civil rights laws.

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 280. (e) Administrative Priorities. (f) Supplemental Priorities.

II. Award Information

Type of Award: Discretionary grants.

Estimated Available Funds:

The Administration has requested $149,000,000 for the MSAP program for FY 2024, of which we intend to use an estimated $84,000,000 for awards under this competition. The actual level of funding, if any, depends on final congressional action. However, we are inviting applications to allow enough time to complete the grant process if Congress appropriates funds for this program.

Contingent upon the availability of funds and the quality of applications, we may make additional awards in FY 2025 from the list of unfunded applications from this competition.

Estimated Range of Awards: $1,500,000-$3,500,000 per budget year.

Maximum Award: Under section 4408(c) of the ESEA, 20 U.S.C. 7231h(3), awards to an LEA or a consortium of LEAs must not exceed $15,000,000 for the project period. Under section 4408(b) of the ESEA, 20 U.S.C. 7231h(2), grantees may not expend more than 50 percent of year one grant funds and not more than 15 percent of years two and three grant funds on planning activities. Professional development is not considered to be a planning activity.

Note: Yearly award amounts may vary.

Estimated Number of Awards: 9-11.

Note: The Department is not bound by any estimates in this notice.

Project Period: Up to 60 months.

III. Eligibility Information

1. Eligible Applicants: LEAs or consortia of LEAs implementing a desegregation plan as specified in section III, paragraph 4 of this notice.

2. a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

4. Other—Desegregation Plans: Under section 4404 of the ESEA, 20 U.S.C. 7231c, and 34 CFR 280.20(e) and (f), to establish eligibility to receive MSAP assistance, applicants must submit with their applications one of the following types of desegregation plans: (i) a desegregation plan required by a final court order; (ii) a desegregation plan required by a State agency or an official of competent jurisdiction; (iii) a desegregation plan required by the Department's Office for Civil Rights (OCR) under Title VI of the Civil Rights Act of 1964 (Title VI); or (iv) a voluntary desegregation plan adopted by the applicant and submitted to the Department for approval as part of the application. Under the MSAP regulations, applicants are required to provide all of the information outlined in 34 CFR 280.20(a) through (g) in order to satisfy the eligibility requirements in 34 CFR 280.2(a)(2) and (b).

Required information for submission under each type of desegregation plan is as follows:

Required Desegregation Plans

1. Desegregation plans required by a final court order. An applicant submitting a desegregation plan required by a final court order must submit complete and signed copies of all court documents demonstrating that the magnet schools are a part of the approved desegregation plan. Examples of the types of documents that would meet this requirement include a Federal or State court order that establishes specific magnet schools, amends a previous order or orders by establishing additional or different specific magnet schools, requires or approves the establishment of one or more unspecified magnet schools, or authorizes the inclusion of magnet schools at the discretion of the applicant.

2. Desegregation plans required by a State agency or official of competent jurisdiction. An applicant submitting a desegregation plan ordered by a State agency or official of competent jurisdiction must provide documentation that shows that the desegregation plan was ordered based upon a determination that State law was violated. In the absence of this documentation, the applicant should consider its desegregation plan to be a voluntary plan and submit the data and information necessary for voluntary desegregation plans.

3. Desegregation plans required by OCR under Title VI. An applicant that submits a desegregation plan required by OCR under Title VI must submit a complete copy of the desegregation plan demonstrating that magnet schools are part of the approved plan or that the plan otherwise permits the inclusion of magnet schools.

4. Modifications to required desegregation plans. A previously approved desegregation plan that does not include the magnet school or program for which the applicant is now seeking assistance must be modified to include the development of magnet schools as outlined in the proposed project. The modification to the desegregation plan must be approved by the court, agency, or official that originally approved the plan. An applicant that wishes to modify a previously approved OCR Title VI desegregation plan to include different or additional magnet schools must submit the proposed modification for review and approval to the OCR regional office that approved its original plan. Proof of approval for plan modifications should be emailed to Gillian Cohen-Boyer at msap.team@ed.gov or mailed to: U.S. Department of Education, 400 Maryland Avenue SW, Room 4B212, Washington, DC 20202-5970. Telephone: (202) 365-7944.

Voluntary Desegregation Plans

Applicants proposing MSAP projects under voluntary desegregation plans must submit with their application a copy of the plan documenting the applicant's or consortia's intention to use magnet schools as a strategy to reduce, eliminate or prevent MGI, either in the proposed magnet schools or in the schools to which the magnet school students would otherwise attend had the magnet schools not been available, the “feeder” schools, as well as documentation of school board approval (or documentation of other official adoption of the plan by a governing authority for the LEA (or consortium of LEAs) as required under 34 CFR 280.20(f)(2)).

Under 34 CFR 280.2(b), the Secretary approves a voluntary desegregation plan only if it is determined that for each magnet school for which funding is sought, the magnet school will reduce, eliminate, or prevent MGI within the period of the grant award, either in the magnet school or in a feeder school, as appropriate. A voluntary desegregation plan must be approved by the Department each time an application is considered for funding.

Please note that while applicants with voluntary desegregation plans must provide evidence of school board approval as a part of the required application materials for consideration in this competition, these plans do not require Department approval prior to application submission. Under section 4404 of the ESEA, 20 U.S.C. 7231c, and 34 CFR 280.2(b), as part of the eligibility review, the Department will review applicants' voluntary desegregation plans and determine on a case-by-case basis, consistent with 20 U.S.C. 7231(b)(1), whether, for each magnet school for which funding is sought, the magnet school will reduce, eliminate, or prevent MGI within the project period, either in the magnet school or in a feeder school, as appropriate. The Department's case-by-case review will include an examination of the factual basis for any proposed increases in enrollment of students from minority groups at district schools. For example, the Department will consider whether a plan to reduce, eliminate, or prevent MGI at a magnet school or at a feeder school would significantly increase MGI at any other magnet or feeder school in the LEA at the grade levels served by the magnet school. LEAs that were previously subject to a required desegregation plan but have achieved unitary status are considered voluntary desegregation plan applicants and should provide the documentation discussed in this section.

To assist the Department in conducting this review and applicants in submitting succinct and comprehensive information, the application package for this competition includes a Desegregation Plan Form OMB-1855-0011 for applicants to summarize the specific goals and objectives of their desegregation plan and explain how MSAP funding will assist in achieving their objectives related to the reduction, prevention, or elimination of MGI either in the proposed magnet schools or feeder schools. Applicants are encouraged to review the Desegregation Plan Form for the full set of instructions. In addition to confirming applicants' eligibility for an award, this form is used to inform the review of applicants' project narratives against the selection criteria in section V, paragraph 1 of this notice.

5. Single-Sex Programs: An applicant proposing to operate a single-sex magnet school or a coeducational magnet school that offers single-sex classes or extracurricular activities will undergo a review of its proposed single-sex educational program to determine compliance with applicable nondiscrimination laws, including the Equal Protection Clause of the U.S. Constitution (as interpreted in United States v. Virginia, 518 U.S. 515 (1996), and other cases) and Title IX of the Education Amendments of 1972 (20 U.S.C. 1681, et seq.) and its regulations—including 34 CFR 106.34. This review may require the applicant to provide additional fact-specific information about the single-sex program.

IV. Application and Submission Information

1. Application Submission Instructions: Applicants are required to follow the Common Instructions for Applicants to Department of Education Discretionary Grant Programs, published in the Federal Register on December 7, 2022 (87 FR 75045) and available at www.federalregister.gov/documents/2022/12/07/2022-26554/common-instructions-for-applicants-to-department-of-education-discretionary-grant-programs, which contain requirements and information on how to submit an application.

2. Submission of Proprietary Information: Given the types of projects that may be proposed in applications for the MSAP, your application may include business information that you consider proprietary. In 34 CFR 5.11, we define “business information” and describe the process we use in determining whether any of that information is proprietary, and thus protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information, please see 34 CFR 5.11(c).

3. Intergovernmental Review: This program is subject to Executive Order 12372 and the regulations in 34 CFR part 79. Information about Intergovernmental Review of Federal Programs under Executive Order 12372 is in the application package for this competition.

4. Funding Restrictions: Unallowable costs are specified in section 4407 of the ESEA, 20 U.S.C. 7231f. We reference additional regulations outlining funding restrictions in the Applicable Regulations section of this notice.

5. Recommended Page Limit: The application narrative is where you, the applicant, address the selection criteria that reviewers use to evaluate your application. We recommend that you (1) limit the application narrative to 125 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances, certifications, desegregation plan and related information; or the one-page abstract, the resumes, or letters of support. The recommended page limit applies only to the application narrative. Please note that the Guidance for Applicants available on the MSAP website competition page specifically identifies how language for competitive priorities and selection criteria can be cross-referenced to reduce redundancies and streamline responses.

6. Notice of Intent To Apply: The Department will be able to review grant applications more efficiently if we know the approximate number of applicants that intend to apply. Therefore, we strongly encourage each potential applicant to notify the Department of their intent to submit an application. To do so, please submit your intent to apply, preferably by April 15, 2024 by emailing msap.team@ed.gov with the subject line, “[LEA Name(s)] Intent to Apply.” Applicants that do not notify the Department of their intent to apply may still apply for funding.

V. Application Review Information

1. Selection Criteria: The selection criteria are from 34 CFR 75.210, 280.31, and sections 4401 and 4405 of the ESEA, 20 U.S.C. 7231 and 7231d.

The maximum score for all of the selection criteria is 100 points. The maximum score for each criterion is included in parentheses following the title of the specific selection criterion. Each criterion also includes the factors that reviewers will consider in determining the extent to which an applicant meets the criterion.

(a) Desegregation (up to 25 points).

The Secretary reviews each application to determine the quality of the desegregation-related activities, including:

(1) The effectiveness of the applicant's proposed desegregation strategies for the elimination, reduction, or prevention of MGI in elementary schools and secondary schools with substantial proportions of minority students. (section 4401(b)(1) of the ESEA, 20 U.S.C. 7231) (up to 10 points)

(2) The effectiveness of its plan to recruit students from different social, economic, ethnic, and racial backgrounds into the magnet schools. (34 CFR 280.31(a)(2)(v)) (up to 5 points)

(3) How it will foster interaction among students of different social, economic, ethnic, and racial backgrounds in classroom activities, extracurricular activities, or other activities in the magnet schools (or, if appropriate, in the schools in which the magnet school programs operate). (34 CFR 280.31(c)(2)(i)) (up to 5 points)

(4) The extent to which there is a conceptual framework underlying the proposed research or demonstration activities and the quality of that framework. (34 CFR 75.210(c)(2)(iii)) (up to 5 points)

(b) Quality of the project design (up to 30 points).

The Secretary reviews each application to determine the quality of the project design. In determining the quality of the design of the proposed project, the Secretary considers the following factors:

(1) The manner and extent to which the magnet school program will increase student academic achievement in the instructional area or areas offered by the school, including any evidence, or if such evidence is not available, a rationale based on current research findings, to support such description. (section 4405(b)(1)(B) of the ESEA, 20 U.S.C. 7231d(b)(1)(B)) (up to 6 points)

(2) The extent to which the training or professional development services to be provided by the proposed project are of sufficient quality, intensity, and duration to lead to improvements in practice among the recipients of those services. (34 CFR 75.210(d)(3)(v)) (up to 6 points)

(3) The extent to which each magnet school for which funding is sought will encourage greater parental decision making and involvement. (34 CFR 280.31(c)(2)(iv)) (up to 6 points)

(4) The extent to which the services to be provided by the proposed project involve the collaboration of appropriate partners for maximizing the effectiveness of project services. (34 CFR 75.210(d)(3)(ix)) (up to 6 points)

(5) The potential for the incorporation of project purposes, activities, or benefits into the ongoing program of the agency or organization at the end of Federal funding. (34 CFR 75.210(f)(2)(vii)) (up to 6 points)

(c) Quality of the management plan (up to 10 points).

The Secretary considers the quality of the management plan for the proposed project. In determining the quality of the management plan for the proposed project, the Secretary considers the following factors:

(1) The adequacy of the management plan to achieve the objectives of the proposed project on time and within budget, including clearly defined responsibilities, timelines, and milestones for accomplishing project tasks. (34 CFR 75.210(g)(2)(i)) (up to 5 points)

(2) The extent to which the costs are reasonable in relation to the number of persons to be served and to the anticipated results and benefits. (34 CFR 75.210(f)(2)(v)) (up to 5 points)

(d) Quality of personnel (up to 20 points).

(1) The Secretary determines the extent to which—

(i) The project director (if one is used) is qualified to manage the project; (34 CFR 280.31(b)(2)(i))

(ii) Other key personnel are qualified to manage the project; (34 CFR 280.31(b)(2)(ii)) and

(iii) Teachers who will provide instruction in participating magnet schools are qualified to implement the special curriculum of the magnet schools. (34 CFR 280.31(b)(2)(iii)) (up to 15 points)

(2) To determine personnel qualifications, the Secretary considers experience and training in fields related to the objectives of the project, including the key personnel's knowledge of and experience in curriculum development and desegregation strategies. (34 CFR 280.31(b)(3)) (up to 5 points)

(e) Quality of the project evaluation (up to 15 points).

The Secretary considers the quality of the evaluation to be conducted of the proposed project. In determining the quality of the evaluation, the Secretary considers the following factors:

For applications under Absolute Priority 1:

(1) How the applicant will assess, monitor, and evaluate the impact of the activities funded under this part on student achievement and integration. (section 4405(b)(1)(D) of the ESEA, 20 U.S.C. 7231d (b)(1)(D)) (up to 5 points)

(2) The extent to which the methods of evaluation include the use of objective performance measures that are clearly related to the intended outcomes of the project and will produce quantitative and qualitative data to the extent possible. (34 CFR 75.210(h)(2)(iv)) (up to 5 points)

(3) The extent to which the methods of evaluation provide for examining the effectiveness of project implementation strategies. (34 CFR 75.210(h)(2)(iii)) (up to 5 points).

For applications under Absolute Priority 2:

(1) How the applicant will assess, monitor, and evaluate the impact of the activities funded under this part on student achievement and integration. (section 4405(b)(1)(D) of the ESEA, 20 U.S.C. 7231d (b)(1)(D)) (up to 5 points)

(2) The extent to which the methods of evaluation include the use of objective performance measures that are clearly related to the intended outcomes of the project and will produce quantitative and qualitative data to the extent possible. (34 CFR 75.210(h)(2)(iv)) (up to 5 points)

(3) The extent to which the methods of evaluation will, if well implemented, produce promising evidence (as defined in 34 CFR 77.1(c)) about the project's effectiveness. (34 CFR 75.210) (up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000) under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN) (or we may send you an email containing a link to access an electronic version of your GAN). We may notify you informally as well.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if the applicant has an exception under 2 CFR 170.110(b).

(b) At the end of the project period, you must submit a final performance report, including financial information, as directed by the Secretary. If you receive a multiyear award recipient, grantees must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) If awarded a grant, applicants must also submit a final report with the results of a study designed to yield results at the level of promising evidence or higher, undertaken during the grant to assist the LEA in building capacity to continue operating magnet schools at a high performance level after Federal funding ends. The plans for this study, which may be narrowly tailored to a specific project component(s), are specifically what is being assessed under selection criterion factor (e)(3).

5. Performance Measures: For the purposes of reporting under 34 CFR 75.110, the following six performance measures have been established for the MSAP:

(a) The number and percentage of magnet schools receiving assistance whose student enrollment eliminates, reduces, or prevents MGI.

(b) The percentage increase of students for all students, disaggregated for each racial and ethnic group, in magnet schools receiving assistance who score proficient or above on State assessments in reading/language arts as compared to the previous year.

(c) The percentage increase of students for all students across each racial and ethnic group in magnet schools receiving assistance who score proficient or above on State assessments in mathematics as compared to the previous year.

(d) The percentage of MSAP-funded magnet schools still operating magnet school programs 3 years after Federal funding ends.

(e) The percentage increase of students for all students across each racial and ethnic group in MSAP-funded magnet schools still operating magnet school programs who score proficient or above on State assessments in reading/language arts 3 years after Federal funding ends as compared to the final project year.

(f) The percentage increase of students for all students across each racial and ethnic group in MSAP-funded magnet schools still operating magnet school programs who score proficient or above on State assessments in mathematics 3 years after Federal funding ends as compared to the final project year.

6. Continuation Awards: In making a continuation award under 34 CFR 75.253, the Secretary considers, among other things, whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Adam Schott,
Principal Deputy Assistant Secretary, Delegated the Authority to Perform the Functions and Duties of the Assistant Secretary, Office of Elementary and Secondary Education.

[FR Doc. 2024-05420 Filed 3-13-24; 8:45 am]

BILLING CODE 4000-01-P